DEPARTMENT OF COMMERCE

Bureau of Industry and Security

15 CFR Part 744

[Docket No. 120816347-2347-01]

RIN 0694-AF77

Addition of Certain Persons to the Entity List

AGENCY: Bureau of Industry and Security, Commerce.

ACTION: Final rule.

SUMMARY: This rule amends the Export Administration Regulations (EAR) by adding one hundred and sixty-four persons under one hundred and sixty-five entries to the Entity List. The persons who are added to the Entity List have been determined by the U.S. Government to be acting contrary to the national security or foreign policy interests of the United States. These persons will be listed on the Entity List under twelve destinations. These additions to the Entity List consist of one person under Belize; thirteen persons under Canada; two persons under Cyprus; one person under Estonia; eleven persons under Finland; five persons under Germany; one person under Greece; two persons under Hong Kong; one person under Kazakhstan; one hundred and nineteen persons under Russia; two persons under Sweden; and seven persons under the United Kingdom, including six persons located in the British Virgin Islands.

The Entity List provides notice to the public that certain exports, reexports, and transfers (in-country) to entities identified on the Entity List require a license from the Bureau of Industry and Security (BIS) and that availability of license exceptions in such transactions is limited.

DATES: Effective Date: This rule is effective October 9, 2012.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to 15 CFR part 744) provides notice to the public that certain exports, reexports, and transfers (in-country) to entities identified on the Entity List require a license from BIS and that the availability of license exceptions in such transactions is limited. Entities are placed on the Entity List on the basis of certain sections of part 744 (Control Policy: End-User and End-Use Based) of the EAR.

The End-user Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add one hundred and sixty-four persons under one hundred and sixty-five entries to the Entity List on the basis of Section 744.11 (license requirements that apply to entities acting contrary to the national security or foreign policy interests of the United States) of the EAR. The one hundred and sixty-five entries added to the Entity List, one of which is an alternate address for a person being added to the Entity List, consist of one entry under Belize; thirteen entries under Canada; two entries under Cyprus; one entry under Estonia; eleven entries under Finland; five entries under Germany; one entry under Greece; two entries under Hong Kong; one entry under Kazakhstan; one hundred and nineteen entries under Russia; two entries under Sweden; and seven entries under the United Kingdom, including six entries for persons located in the British Virgin Islands.

The ERC reviewed Section 744.11(b) (Criteria for revising the Entity List) in making the determination to add these persons to the Entity List. Under that paragraph, persons for which there is reasonable cause to believe, based on specific and articulable facts, that the persons have been involved, are involved, or pose a significant risk of being or becoming involved in, activities that are contrary to the national security or foreign policy interests of the United States and those acting on behalf of such persons may be added to the Entity List pursuant to Section 744.11. Paragraphs (b)(1)-(b)(5) of Section 744.11 include an illustrative list of activities that could be contrary to the national security or foreign policy interests of the United States. All one hundred and sixty-four persons being added under one hundred and sixty-five entries are believed to have been involved in activities described under paragraph (b)(5) of Section 744.11. Paragraph (b)(5) specifies that the types of activities that could be contrary to the national security or foreign policy interests of the United States include engaging in conduct that poses a risk of violating the EAR when such conduct raises sufficient concern that the ERC believes that prior review of exports, reexports, or transfers (in-country) involving the party and the possible imposition of license conditions or license denial enhances BIS's ability to prevent violations of the EAR.

The ERC determined to add the one hundred and sixty-four persons to the Entity List on the basis of § 744.11 of the Export Administration Regulations (EAR): engaging in activities contrary to the national security and foreign policy interests of the United States. Specifically, the persons recommended for addition to the Entity List in this rule were identified during a U.S. Government investigation of a network of companies and individuals involved in the procurement and delivery of items subject to the EAR and the International Traffic in Arms Regulations to Russia in violation of the EAR and ITAR. These persons undertook procurement and delivery activities, activities to conceal the procurement and delivery activities, activities to circumvent EAR and ITAR license requirements, and/or activities to facilitate the procurement of export-restricted items for Russian military-related and other governmental or related end-uses.

For the one hundred and sixty-four persons added to the Entity List, the ERC specified a license requirement for all items subject to the EAR, and established a license application review policy of a presumption of denial. The license requirement applies to any transaction in which items are to be exported, reexported, or transferred (in-country) to such persons or in which such persons act as purchaser, intermediate consignee, ultimate consignee, or end-user. In addition, no license exceptions are available for exports, reexports, or transfers (in-country) to those persons being added to the Entity List.

This final rule adds the following one hundred and sixty-four persons under one hundred and sixty-five entries to the Entity List:

Belize

(1) Experian Holdings, Inc., N Eyre St., Blake Bldg, Suite 302, Belize City, Belize 99008.

Canada

(1) Alex Woolf, 2021 Atwater Street, Suite 216, Montreal, Quebec, Canada H3H2P2;

(2) Alexandre Ivjenko, a.k.a., the following one alias:

—Alexander Ivjenko,

7150 Rue Chouinard, Montreal, QC, H8N 2Z6 Canada;

(3) Anastasiya Ivjenko, 7150 Rue Chouinard, Montreal, QC, H8N 2Z6, Canada;

(4) Anastassia Voronkevitch, 7320 St. Jacques St. W. Montreal QC, H4B1W1, Canada;

(5) Atlas Electronic Systems (AES), 7320 St. Jacques St. W. Montreal, QC, H4B1W1, Canada;

(6) Enterprise Chips Hunter (ECH), 2021 Atwater Street, Suite 216, Montreal, Quebec, Canada H3H2P2;

(7) Liubov “Luba” Skvortsova, a.k.a., the following one alias:

—Lubov Skvortsova,

7150 Rue Chouinard, Montreal, QC, H8N 2Z6 Canada;

(8) Magtech, a.k.a., the following one alias:

—M.A.G. Tech,

5762 Royalmount Ave, Montreal, QC, H4P 1K5, Canada; and 5440 Queen Mart St, Office 103, Montreal, Canada;

(9) Maria Pashovkina, 7150 Rue Chouinard, Montreal, QC, H8N 2Z6, Canada;

(10) Mercury Electronic Solutions, a.k.a., the following one alias:

—Mercury Group International,

380 Vansickle Rd Unit 660, St. Catharines, ON L2126P7, Canada; and 127 Rue Wilson, Dollard-des-Ormeaux, Quebec H9A1W7, Canada;

(11) Natalie Sobolev, 5762 Royalmount Ave, Montreal, QC H4P 1K5, Canada; and 5440 Queen Mart St., Office 103, Montreal, Canada;

(12) Sputnik E, 7150 Rue Chouinard, Montreal, QC H8N 2Z6 Canada; and

(13) Zurab Kartvelishvili, a.k.a., the following one alias:

—George Kartveli,

7380 Vansickle Rd. Unit 660, St. Catharines, ON L2126P7, Canada; and 7320 St. Jacques St., W. Montreal QC, H4B1W1, Canada; and 380 Vansickle Rd, Unit 660, St. Catharines, ON L2126P7, Canada; and 127 Rue Wilson, Dollard-des-Ormeaux, Quebec H9A1W7, Canada.

Cyprus

(1) Didessar Limited, Archbishop Makarios III Ave., Nicosia, Cyprus; and

(2) Leondica Holding Ltd, 25 Kolonakiou Str, Za Vos Kolonakioy Center, Limassol, Cyprus.

Estonia

(1) Yaxart OU, Kalevipoja 12A, 13625 Tallinn, Estonia.

Finland

(1) Aleksei Kolominen, 20 Nuolitie, Vantaa, Finland 01740;

(2) Andrey Kirievski, Lastaajanvayla 22, Lappeenranta, Finland 53420;

(3) Eliron Logistics Oy, Vanha Porvoontie 229, Vantaa, Finland 01380;

(4) Irina Pavlova, Lastaajanvayla 22, Lappeenranta, Finland 53420;

(5) Kuusiaaren Sarnetex & Ter Oy, Kaasuntintie 8A, Helsinski, Finland 00770;

(6) Lemon LLC Oy, Peltoinlahdentie 19, FI-54800 Savitaipale, Finland;

(7) Olkerboy Oy/Nurminen Oy, 231B Vanha Porvoontie, Vantaa, Finland 01380;

(8) Russian Cargo Oy, 22 Lastaajanvayla, Lappeenranta, Finland 53420;

(9) SM Way Oy, Lastaajanvayla 22, Lappeenranta, Finland 53420;

(10) Transsphere Oy, a.k.a., the following two aliases:

—Transsphere Limited Oy; and

—Transsphere Oy Ltd.,

20 Nuolitie, Vantaa, Finland 01740; and

(11) Vitaliy Dankov, Vanha Porvoontie 231B, Vantaa, Finland 01380.

Germany

(1) Albrecht Import-Export, a.k.a., the following one alias:

—Elena Albrecht Import-Export,

Gmunder Str. 25, Heubach, Germany 73540;

(2) Alexander Brovarenko, Fasanenweg 9L, Kelsterbach, Germany D-65451; and Fasanenweg 9, Gate 23, Kelsterbach, Germany 65451; and Fasanenweg 7, Kelsterbach, Germany D-65451; and IM Taubengrund 35 Gate 1-2, Kelsterbach, Germany 65451;

(3) Elena Albrecht, a.k.a., the following one alias:

—Elena Grinenko,

Gmunder Str. 25, Heubach, Germany 73540;

(4) Russ Cargo Service GMBH, Fasanenweg 9L, Kelsterbach, Germany D-65451; and Fasanenweg 9, Gate 23, Kelsterbach, Germany 65451; and Fasanenweg 7, Kelsterbach, Germany D-65451; and IM Taubengrund 35 Gate 1-2, Kelsterbach, Germany 65451; and

(5) Sergey Grinenko, a.k.a., the following one alias:

—Sergey Albrecht,

Gmunder Str. 25, Heubach, Germany 73540.

Greece

(1) Top Electronics Components S.A., 66 Alkminis & Aristovoulov Str, Kato Petralona, Athens, Greece 11853.

Hong Kong

(1) Sergey Koynov, a.k.a., the following one alias:

—Sergey V. Coyne,

Room 704 7/F, Landwide Commercial Building, 118-120 Austin Rd., Tsim Sha Tsui, Hong Kong (See alternate address under Russia); and

(2) Serko Limited, Room 704 7/F, Landwide Commercial Building, 118-120 Austin Rd, Tsim Sha Tsui, Hong Kong.

Kazakhstan

(1) APEX Kazakhstan, 126 Jarokova Str, Almaty, Kazakhstan.

Russia

(1) Abris, 6 Aptekarskiy Prospeckt, Office 710, St. Petersburg, Russia 197376; and 30 16th Parkovaya St., Office 319, Moscow, Russia 105484;

(2) Abris-KEY, 6 Aptekarskiy Prospeckt, Office 710, St. Petersburg, Russia 197376; and 30 16th Parkovaya St, Office 319, Moscow, Russia 105484;

(3) Abris-Technology, 6 Aptekarskiy Prospeckt, Office 710, St. Petersburg, Russia 197376; and 30 16th Parkovaya St, Office 319, Moscow, Russia 105484;

(4) Aleksander Cheremshin, Ulitsa Mitinskaya 36/1, Moscow, Russia 125430; and Ordzhonikidze 10, Moscow, Russia 119071; and 10 Ordjonikidze Street, Moscow, Russia 119071; and Ulitsa Polyany 9/6, Moscow, Russia 117042; and Poljani Str., 9-6, 117042, Moscow, Russia; and 9 Polyany Street, Suite 6, Moscow, Russia 117042; and 33 Ulitsa Marshala Tukhachevskogo, Suite 231, Moscow, Russia 123154; and Bolshaya Semenovskaya, 40/505, Moscow, Russia 107023; and Ulitsa Metallurgov, 29, Str. 1, Komnata Pravleni, Moscow, Russia 111401;

(5) Aleksander Kuznetsov, a.k.a., the following one alias:

—Alexander Kuznetsov,

Ordzhonikidze 10, Moscow, Russia 119071; and 10 Ordjonikidze Street, Moscow, Russia 119071; and Ulitsa Polyany 9/6, Moscow, Russia 117042; and Poljani Str., 9-6, 117042, Moscow, Russia; and 9 Polyany Street, Suite 6, Moscow, Russia 117042; and 33 Ulitsa Marshala Tukhachevskogo, Suite 231, Moscow, Russia 123154;

(6) Aleksey Markov, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia;

(7) Alex Pikhtin, a.k.a., the following one alias:

—Alexander Pikhtin,

Pr. Yuria Gagarina 2, St. Petersburg, Russia 196105;

(8) Alexander Georgievich Mallabiu, 25 Red Cadets Street Letter H, Office Block 2, St. Petersburg, Russia 99034; and 130-17 Nevskiy Ave., Saint Petersburg, Russia 191036; and16 Linia V.O., 7 Office 43, St. Petersburg, Russia 99034; and Krestovski River Quay 3, Suite 42, St. Petersburg, Russia 197376;

(9) Alexander Kuznetsov, Ulitsa Artyukhina 6B, 106, Moscow, Russia;

(10) Alexander V. Brindyuk, a.k.a., the following one alias:

—Aleksander Brendyuk,

Pr. Yuria Gagarina 2, Office 801, St. Petersburg, Russia 196105;

(11) Alexander Vedyashkin, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia;

(12) Alexey Ivanov Zhuravlev, a.k.a., the following one alias:

—Alexy Ivanov,

Pr. Yuria Gagarina 2, Office 801, St. Petersburg, Russia 196105; and Pr. Yuria Gagarina 1, Office 230, St. Petersburg, Russia 196105; and Pr. Yuri Gagarin 1, Office 230, St. Petersburg, Russia 196105;

(13) Alexey Kulakov, Naberezhnaya Chernoi Rechki 61-1, St. Petersburg, Russia 197342; and Naberegnaja Chernoj Rechki 61-1, 197342, Saint Petersburg, Russia;

(14) Alexey Polynkov, 471-4-98 Shosse Entuziastov, Moscow, Russia;

(15) Anastasya Arkhipova, a.k.a., the following one alias:

—Anatasiya Arkhipova,

26 General Belov St, Office 415, Moscow, Russia 115583; and 26 Generala Belova Street, Office 415, Moscow, Russia 115583; and 53 Sherbakovskaya Street, Building 3, Office 509, 105318 Moscow, Russia;

(16) Andrey Gruzdew, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376;

(17) Andrey V Gromadskih, 32 Korablestroiteley St., building #1, Apt #119, St. Petersburg, Russia 199397; and Zastavskaya St. 32A, St. Petersburg, Russia 196084; and Zastavskaya St. 15-B, St. Petersburg, Russia 196084; and Raketnyy Bul'var 15, Moscow, Russia 129164; and 16 Raketnyy Bul'var, Moscow, Russia 129164;

(18) Andrey Vladimirovich Saponchik, 6 Aptekarskiy Prospekt, Office 710, St. Petersburg, Russia 197376; and Naberezhnaya Chernoi Rechki 61-1, St. Petersburg, Russia 197342; and 7 Belovodskiy Ln., St. Petersburg, Russia 194044; and Belovodskyi Per, 7, St. Petersburg, Russia 194044; and Naberegnaja Chernoj Rechki 61-1, 197342, Saint Petersburg, Russia; and 16 Parkovaya 30, Office 319, Moscow, Russia 105484;

(19) Anna V Libets, Zastavskaya St. 32A, St. Petersburg, Russia 196084; and Zastavskaya St. 15-B, St. Petersburg, Russia 196084; and Raketnyy Bul'var 15, Moscow, Russia 129164; and 16 Raketnyy Bul'var, Moscow, Russia 129164;

(20) Anton Khramov, 86 N Prospect Obukhovskoy Oborony, St. Petersburg, Russia 190000;

(21) Anton Lebedev, Pr. Yuria Gagarina 2, Office 801, St. Petersburg, Russia 196105; and Pr. Yuria Gagarina 1, Office 230, St. Petersburg, Russia 196105; and Pr. Yuri Gagarin 1, Office 230, St. Petersburg, Russia 196105;

(22) Anton Yurevich Alekseyev, Ulitsa Mitinskaya 30/4, Moscow, Russia 123430;

(23) APEX, a.k.a., the following four aliases:

—APEKS;

—APEX Systems;

—OOO APEX; and

—APEX Ltd.,

26 General Belov St Office 415, Moscow, Russia 115583; and 26 Generala Belova Street, Office 415, Moscow, Russia 115583; and 53 Sherbakovskaya Street, Building 3, Office 509, Moscow, Russia 105318;

(24) APEX St. Petersburg, 140 Leninsky Prospekt, Office 57, St. Petersburg, Russia;

(25) APEX Yekaterinburg, 106 Kuybyshev Str, Office 68, Yekaterinburg, Russia; and Ulitsa 9 March, D. 120B, Office 312 620100, Yekaterinburg, Russia; and 106 K 68 ul Kuibysheva, 620100, Yekaterinburg, Russia;

(26) Arsenal, 26 General Belov St, Office 19, Moscow, Russia 115583; and 26 Generala Belova Street, Office 19, Moscow, Russia 115583;

(27) Atrilor, Ltd, a.k.a., the following two aliases:

—Atrilor LLC; and

—OOO Atrilor,

36 Mitinskaya St., Building 1, Office 406, Moscow, Russia 125430; and 53 Shcherbakovskaya Street, Moscow 105187;

(28) Aviton, a.k.a., the following three aliases:

—Aviton company;

—For Salmi; and

—Salmi LLC,

6 Aptekarskiy Prospect, Office 710, St. Petersburg, Russia 197376; and 7 Belovodskiy Ln., St. Petersburg, Russia 194044; and Belovodskiy Per, 7, St. Petersburg, Russia 194044; and Naberegnaja Chernoj Rechki 61-1, 197342, Saint Petersburg, Russia; and Naberezhnaya Chernoi Rechki 61-1, St. Petersburg, Russia 197342; and 16 Parkovaya 30, Office 319, Moscow, Russia 105484;

(29) Best Komp Group, P.O. Box 242, St. Petersburg, Russia 196240;

(30) Bitreit, a.k.a., the following one alias:

—OOO Bitreit,

Neglinnaya Str., 18/1, emb.1 “A”, Moscow, Russia;

(31) Bolshaya Semenovskaya, 40/505, Moscow, Russia 107023; and Ulitsa Metallurgov, 29, Str. 1, Komnata Pravleni, Moscow, Russia 111401;

(32) Denis A Kizha, Pulkovskoe Shosse, 20-4 #159, St. Petersburg, Russia 196158; and Zastavskaya St. 32A, St. Petersburg, Russia 196084; and Zastavskaya St. 15-B, St. Petersburg, Russia 196084; and Raketnyy Bul'var 15, Moscow, Russia 129164; and 16 Raketnyy Bul'var, Moscow, Russia 129164;

(33) DM Link, P.O. Box 242, St. Petersburg, Russia 196240;

(34) Dmitri Ezhov, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583;

(35) Dmitriy Averichev, Naberezhnaya Chernoi Rechki 61-1, St. Petersburg, Russia 197342; and Naberegnaja Chernoj Rechki 61-1, 197342, Saint Petersburg, Russia;

(36) Dmitriy Moroz, Pr. Yuria Gagarina 2, Office 801, St. Petersburg, Russia 196105;

(37) Dmitriy Rakhimov, 26 General Belov Str Office 1010, Moscow, Russia 115583; and 26 Generala Belova Street, Office 1010, Moscow, Russia 115583;

(38) Dmitriy V Lukhanin, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376;

(39) Dmitry Andreev, 4 Savelkinskiy Dr., Suite 511-512, Zelenograd, Russia 124482;

(40) Dmitry Kochanov, 4 Pokhodnyy Dr, Bldg 1, 4th Floor, Room 417, Moscow, Russia 125373;

(41) Dmitry M Rodov, Zastavskaya St. 32A, St. Petersburg, Russia 196084; and Zastavskaya St. 15-B, St. Petersburg, Russia 196084; and Raketnyy Bul'var 15, Moscow, Russia 129164; and 16 Raketnyy Bul'var, Moscow, Russia 129164;

(42) Dmitry Shegurov, a.k.a., the following one alias:

—Dmitriy Shegurov,

53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583; and 26 General Belov Str, Office 19, Moscow, Russia 115583; and 26 Generala Belova Street, Office 19, Moscow, Russia 115583;

(43) ECO-MED-SM Ltd, Petrovsko-Razumovsky proyezd 29, bed.2, Moscow, Russia 127287;

(44) Electrotekhnika LLC, 4 Savelkinskiy Dr., Suite 511-512, Zelenograd, Russia 124482; and 4 Yunost Square, NPZ, Suite 1-7, Zelenograd, Russia 124482; and 4 Yunost Square, NPZ, Apt. 1-7, Zelenograd, Russia 124482;

(45) Elena Kuznetsova, a.k.a., the following one alias:

—Yelena Vladimirovna Kuznetsova,

Zastavskaya St. 32A, St. Petersburg, Russia 196084; and Zastavskaya St. 15-B, St. Petersburg, Russia 196084; and Raketnyy Bul'var 15, Moscow, Russia 129164; and 16 Raketnyy Bul'var, Moscow, Russia 129164; and 9 Lipovaya alleya, St. Petersburg, Russia 197183;

(46) Elizaveta Krapivina, a.k.a., the following one alias:

—Yelizaveta Krapivina,

Pr. Yuria Gagarina 2, Office 801, St. Petersburg, Russia 196105;

(47) Evgeni Viktorovich Egorov, 4 Savelkinskiy Dr., Suite 511-512, Zelenograd, Russia 124482;

(48) Forward Electronics, LLC, 86 N Prospect Obukhovskoy Oborony, St. Petersburg, Russia 190000; and Kolomyazhsky Prospect 18, Office 4085 BC “North House,” St. Petersburg, Russia 197348;

(49) Hermann Derkach, Pr. Yuria Gagarina 2, Office 801, St. Petersburg, Russia 196105;

(50) Igor Samusev, Ulitsa Artyukhina 6B, 106, Moscow, Russia;

(51) Incorporated Electronics Systems, 9 Lipovaya Alleya, St. Petersburg, Russia 197183; and 9A Lipovaya Alleya, St. Petersburg, Russia 197183;

(52) Ivan Komarov, Pr. Yuria Gagarina 2, Office 801, St. Petersburg, Russia 196105;

(53) Ivan Zubarev, 4 Savelkinskiy Dr., Suite 511-512, Zelenograd, Russia 124482;

(54) Kirill A Stekhovskiy, Zastavskaya St. 32A, St. Petersburg, Russia 196084; and Zastavaskaya St. 15-B, St. Petersburg, Russia 196084; and Raketnyy Bul'var 15, Moscow, Russia 129164; and 16 Raketnyy Bul'var, Moscow, Russia 129164;

(55) Kirill Drozdov, 86 N Prospect Obukhovskoy Oborony, St. Petersburg, Russia 190000;

(56) Kirill Pechorin Starodvorsky, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376;

(57) Lyudmila V Talyanova, Zastavskaya St. 32A, St. Petersburg, Russia 196084; and Zastavskaya St. 15-B, St. Petersburg, Russia; and Raketnyy Bul'var 15, Moscow, Russia 129164; and Krestovski River Quay 3, Suite 42, St. Petersburg, Russia 197376;

(58) Magnetar, Pr. Yuria Gagarina 2, Office 801, St. Petersburg, Russia 196105;

(59) Mariya Lomova, 9 Lipovaya Alleya, St. Petersburg, Russia 197183;

(60) Mark Gofman, P.O. Box 242, St. Petersburg, Russia 196240;

(61) Maxim Yevgenevich Ivakin, 106 Kuybyshev Str, Office 68, Yekaterinburg, Russia;

(62) MaxiTechGroup, a.k.a., the following two aliases:

—MaksiTekhGrup; and

—JSC MaksiTekhGrup, 4 Pokhodnyy Dr, Bldg 1, 4th floor, Room 417, Moscow, Russia 125373; and 46 Chkalova St., Zhukovskiy, Moscow Region, 140180;

(63) Megel, 26 General Belov St, Office 1010, Moscow, Russia 115583; and 26 Generala Belova Street, Office 1010, Moscow, Russia 115583;

(64) Mekom, a.k.a., the following one alias:

—Mecom,

Ulitsa Mitinskaya 36/1, Moscow, Russia 125430;

(65) Melkom, a.k.a., the following two aliases:

—Melcom; and

—Melkon JSC,

Ulitsa Ordzhonikidze 10, Moscow, Russia 119071; and 10 Ordjonikidze Street, Moscow, Russia 119071; and Ultisa Polyany 9/6, Moscow, Russia 117042; and Polijani str., 9-6, 117042, Moscow, Russia; and 33 Ulitsa Marshala Tukhachevskogo, Suite 231, Moscow, Russia 123154; and Bolshaya Semenovskaya, 40/505, Moscow, Russia 107023; and Ulitsa Metallurgov, 29, Str. 1, Komnata Pravleni, Moscow, Russia 111401;

(66) MicroComponent LLC, 2/1, 4th Zapadny proezd, Zelenograd, Russia 124460; and 4 Yunost Square, NPZ, Suite 1-7, Zelenograd, Russia 124482; and 4thWest Passage Dr., Building 2, 124460, Zelenograd, Russia;

(67) MIG Engineering, a.k.a., the following one alias:

—MIG Electronics,

26 General Belov Str, Office 1010, Moscow, Russia 115583; and 26 Generala Belova Street, Office 1010, Moscow, Russia 115583; and 53 Scherbakovskaya St, Bldg 3, Moscow, Russia 105187;

(68) Mikhail Davidovich, a.k.a., the following one alias:

—Mike Davidovich,

P.O. Box 242, St. Petersburg, Russia 196240;

(69) Mikhail Karpushin, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russi; and 5a Severnaya Street, Saransk, Republic of Mordovia, Russia;

(70) Mikhail Vinogradov, 4 Pokhodnyy Dr, Bldg 1, 4th Floor, Room 417, Moscow, Russia 125373;

(71) Neva Electronica, a.k.a., the following one alias:

—Neva Elektronika,

Pr. Yuria Gagarina 2, Office 801, St. Petersburg, Russia 196105; and 5 Professora Popova St., Saint Petersburg, 197022;

(72) Nikolai Bragin, 2A Chernyshevskogo St., St. Petersburg, Russia 191123; and Zastavkaya St. 32A, St. Petersburg, Russia 196084; and Zastavskaya St. 15-B, St. Petersburg, Russia 196084; and Raketnyy Bul'var 15, Moscow, Russia 129164; and 16 Raketnyy Bul'var, Moscow, Russia 129164;

(73) Nova Technologies, a.k.a., the following five aliases:

—Novie Technologies; and

—Nova SPB; and

—New Technology; and

—Nova Technologies Co., Ltd.; and

—Novyye Tekhnologii, LLC,

25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376;

(74) Oksana Timohina, 6 Aptekarskiy Prospekt, Office 710, St. Petersburg, Russia 197376; and Naberezhnaya Chernoi Rechki 61-1, St. Petersburg, Russia 197342; and 7 Belovodskiy Ln., St. Petersburg, Russia 194044; and Belovodskyi Per, 7, St. Petersburg, Russia 194044; and Naberegnaja Chernoj Rechki 61-1, 197342, Saint Petersburg, Russia; and 16 Parkovaya 30, Office 319, Moscow, Russia 105484;

(75) Oleg Koshkin, 26 General Belov St Office 415, Moscow, Russia 115583; and 26 Generala Belova St Office 415, Moscow, Russia 115583; and 53 Sherbakovskaya Street, Building 3, Office 509, 105318 Moscow, Russia;

(76) Oleg Kunilov, 4 Savelkinskiy Dr., Suite 511-512, Zelenograd, Russia 124482;

(77) Olga Naumova, 53 Sherbakovskaya St, Bldg 3, Moscow, Russia 105187; and 26 General Belov Str, Office 1010, Moscow, Russia 115583; and 26 Generala Belova Street, Office 1010, Moscow, Russia 115583;

(78) Olga Pakhmutova, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583;

(79) Olga Petrovna Kuznetsova, 33 Ulitsa Marshala Tukhachevskogo, Suite 231 Moscow, Russia 123154; and Ordzhonikidze 10, Moscow, Russia 119071; and 10 Ordjonikidze Street, Moscow, Russia 119071; and Ulitsa Polyany 9/6, Moscow, Russia 117042; and Poljani Str., 9-6, 117042 Moscow, Russia; and 9 Polyany Street, Suite 6, Moscow, Russia 117042; and Bolshaya Semenovskaya, 40/505, Moscow, Russia 107023; and Ulitsa Metallurgov, 29, Str. 1, Komnata Pravleni, Moscow, Russia 111401;

(80) Olga Ruzmanova, 53 Sherbakovskaya Street, Building 3, Office 509, 105318 Moscow, Russia; and 26 General Belov St Office 415, Moscow, Russia 115583; and 26 Generala Belova Street, Office 415, Moscow, Russia 115583; and 26 General Belov Str, Office 19, Moscow, Russia 115583; and 26 Generala Belova Street, Office 19, Moscow, Russia 115583;

(81) Olga V Bobrikova, 8 Pushkinskaya St., Apt. #47, St. Petersburg, Russia 196607; and Zastavskaya St. 32A, St. Petersburg, Russia 196084; and Zastavskaya St. 15-B, St. Petersburg, Russia 196084; and Raketnyy Bul'var 15, Moscow, Russia 129164; and 16 Raketnyy Bul'var, Moscow, Russia 129164;

(82) Pavel Grishanovich, 9 Lipovaya alleya, St. Petersburg, Russia 197183;

(83) Petersburg Electronic Company (PEC), LLC, a.k.a., the following one alias:

—Petersburg Electron-Komplekt Ltd.,

Zastavskaya St 32A, St. Petersburg, Russia 196084; and Zastavskaya St. 15-B, St. Petersburg, Russia 196084; and Raketnyy Bul'var 15, Moscow, Russia 129164; and 16 Raketnyy Bul'var, Moscow, Russia 129164;

(84) Petersburg Electronic Company Warehouse, Zastavskaya St. 15-B, St. Petersburg, Russia 196084;

(85) ProExCom, Ulitsa Artyukhina 6B, 106, Moscow, Russia;

(86) Radel Ltd., a.k.a., the following one alias:

—Firm Radel Ltd.,

20 Novaya Basmannaya St., Moscow, Russia;

(87) Ramil Yarullovich Magzhanov, Zastavskaya St. 32A, St. Petersburg, Russia 196084; and Zastavskaya St. 15-B, St. Petersburg, Russia 196084; and Raketnyy Bul'var 15, Moscow, Russia 129164; and 16 Raketnyy Bul'var, Moscow, Russia 129164;

(88) Ravil Mukminovich Bagautdinov, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583;

(89) RCM Group, 6 Aptekarskiy Prospekt, Office 700, St. Petersburg, Russia 197376; and 30 16th Parkovaya St, Office 319, Moscow, Russia 105484; and 16-aya Parkovaya Str., 30, Office 319, Moscow, Russia 105484;

(90) Roman Eliseev, a.k.a., the following one alias:

—Roman Yeliseyev, 26 General Belov Str Office 19, Moscow, Russia 115583; and 26 Generala Belova Street, Office 19, Moscow, Russia 115583; and 53 Sherbakovskaya Street, Building 3, Office 509, 105318 Moscow, Russia; and 26 General Belov St, Office 1010, Moscow, Russia 115583; and 26 Generala Belova Street, Office 1010, Moscow, Russia 115583; and 26 General Belov St Office 415, Moscow, Russia 115583; and 26 Generala Belova Street, Office 415, Moscow, Russia 115583;

(91) Saransk Electronic Company, a.k.a., the following one alias:

—APEX Saransk,

5A North Street, Saransk, Republic of Mordovia, Russia 43006; and 60 Bolshevistskaya St., Office 905, Saransk, Republic of Mordovia, Russia; and 60 Bolshevistskaya St., Office 910, Saransk, Republic of Mordovia, Russia; and 5a Severnaya Street, Saransk, Republic of Mordovia, Russia;

(92) SCTB Engineering, Pr. Yuria Gagarina 1, Office 230, St. Petersburg, Russia 196105; and Pr. Yuri Gagarin 1, Office 230, St. Petersburg, Russia 196105;

(93) Sergei Evgenevich Klinov, a.k.a., the following one alias:

—Sergey Yevgenyevich Klinov,

26 General Belov St Office 415, Moscow, Russia 115583; and 26 Generala Belova Street, Office 415, Moscow, Russia 115583; and 53 Sherbakovskaya Street, Building 3, Office 509, 105318 Moscow, Russia; and 26 General Belov St Office 1010, Moscow, Russia 115583; and 26 Generala Belova St Office 1010, Moscow, Russia 115583;

(94) Sergei G Yuropov, Zastavskaya St 32A, St. Petersburg, Russia 196084; and Zastavskaya St. 15-B, St. Petersburg, Russia 196084; and Raketnyy Bul'var 15, Moscow, Russia 129164; and 16 Raketnyy Bul'var, Moscow, Russia 129164;

(95) Sergey Koynov, a.k.a., the following one alias:

—Sergey V. Coyne,

106 Kuybyshev Str, Office 68, Yekaterinburg, Russia (See alternate address in Hong Kong);

(96) Sergey Nikolayevich Sanaev, a.k.a., the following one alias:

—Sergei Nikoleivich Sanev,

5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia;

(97) Specelkom, a.k.a., the following one alias:

—Special Electronic Components,

Ulitsa Mitinskaya 30/4, Moscow, Russia 123430;

(98) SpekElectronGroup, 72 Lenigradsky Avenue, Bldg 4, Moscow, Russia 125315;

(99) Stanislav Berezovets, Ulitsa Polyany 9/6, Moscow, Russia 117042.

(100) Stanislav Bolt, 9 Lipovaya Alleya, St. Petersburg, Russia 197183;

(101) Stanislav Orelsky, 6 Aptekarskiy Prospekt, Office 710, St. Petersburg, Russia 197376; and Naberezhnaya Chernoi Rechki 61-1, St. Petersburg, Russia 197342; and 7 Belovodskiy Ln., St. Petersburg, Russia 194044; and Belovodskyi Per, 7, St. Petersburg, Russia 194044; and Naberegnaja Chernoj Rechki 61-1, 197342, Saint Petersburg, Russia; and 16 Parkovaya 30, Office 319, Moscow, Russia 105484;

(102) Systema VP, a.k.a., the following one alias:

—Sistema VP,

4 Savelkinskiy Dr., Suite 511-512, Zelenograd, Russia 124482; and Savelkinsky Pr 4, Office 512, Zelenograd, Russia 124482; and Savelkinskiy Proyedz 4, Office 512, Zelenograd, Russia 124482; and 4 Yunost Square, NPZ, Suite 1-7, Zelenograd, Russia 124482; and Ofis 511, Prospeckt Savelinksi, Moscow, Russia 124482; and 4 Yunost Plaza NPZ, rooms 1-7, Zelenograd, Moscow 124482;

(103) Timur Nikoleavich Edigeev, a.k.a., the following one alias:

—Timur Yedigeyev,

53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583;

(104) Vadim Shuletskiy, 6 Aptekarskiy Prospekt, Office 710, St. Petersburg, Russia 197376; and 7 Belovodskiy Ln, St. Petersburg, Russia 194044; and Belovodskyi Per, 7, St. Petersburg, Russia 194044, and Naberegnaja Chernoj Rechki 61-1, 197342, Saint Petersburg, Russia; and 16 Parkovaya 30, Office 319, Moscow, Russia 105484;

(105) Valentina Mazalova, 6 Aptekarskiy Prospekt, Office 710, St. Petersburg, Russia 197376; and Naberezhnaya Chernoi Rechki 61-1, St. Petersburg, Russia 197342; and 7 Belovodskiy Ln., St. Petersburg, Russia 194044; and Belovodskyi Per, 7, St. Petersburg, Russia 194044; and Naberegnaja Chernoj Rechki 61-1, 197342, Saint Petersburg, Russia; and 16 Parkovaya 30, Office 319, Moscow, Russia 105484;

(106) Video Logic, 4 Yunost Square, NPZ, Suite 1-7, Zelenograd, Russia 124482;

(107) Viktor Bokovoi, Ulitsa Polyany 9/6, Moscow, Russia 117042;

(108) Vitaliy Nagorniy, Ulitsa Polyany 9/6, Moscow, Russia 117042;

(109) Vladimir Davidenko, 20 Novaya Basmannaya St., Moscow, Russia;

(110) Vladimir Safronov, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376;

(111) Vladimir Viktorovich Lavrov, Vavilovykh Street 4-2 #267, St. Petersburg, Russia 195257; and Zastavskaya St. 32A, St. Petersburg, Russia 196084; and Zastavskaya St. 15-B, St. Petersburg, Russia 196084; and Raketnyy Bul'var 15, Moscow, Russia 129164; and 16 Raketnyy Bul'var, Moscow, Russia 129164;

(112) Vladislav A. Sokolov, 6 Aptekarskiy Prospekt, Office 710, St. Petersburg, Russia 197376; and Naberezhnaya Chernoi Rechki 61-1, St. Petersburg, Russia 197342; and 7 Belovodskiy Ln, St. Petersburg, Russia 194044; and Belovodskyi Per, 7, St. Petersburg, Russia 194044; and Naberegnaja Chernoj Rechki 61-1, 197342, Saint Petersburg, Russia; and 16 Parkovaya 30, Office 319, Moscow, Russia 105484;

(113) Vyacheslav Y Shillin, Zastavskaya St. 32A, St. Petersburg, Russia 196084; and Zastavskaya St. 15-B, St. Petersburg, Russia 196084; and Raketnyy Bul'var 15, Moscow, Russia 129164; and 16 Raketnyy Bul'var, Moscow, Russia 129164;

(114) Yekaterina Parfenova, 4 Savelkinskiy Dr., Suite 511-512, Zelenograd, Russia 124482;

(115) Yevgeniy L Biryukov, Pr. Yuria Gagarina 2, Office 801, St. Petersburg, Russia 196105;

(116) Yuliya L. Molkova-Poluh, a.k.a., the following three aliases:

—Yuliya Molkova-Polukh;

—Yuliya Leonidovna Molkova-Polyukh; and

—Yuliya Molkova-Polah,

Zastavskaya St. 32A, St. Petersburg, Russia 196084; and

Zastavskaya St. 15-B, St. Petersburg, Russia 196084; and

Raketnyy Bul'var 15, Moscow, Russia 129164; and

16 Raketnyy Bul'var, Moscow, Russia 129164;

(117) Yuri A. Krasheninnikov, 9 Lipovaya Alleya, St. Petersburg, Russia 197183;

(118) Yuri Savin, 39 Dnepropetrovskaya Str., Build 1, Apt. 287, Moscow, Russia; and

36 Mitinskaya St, Building 1, Office 406, Moscow, Russia 125430; and

53 Shcherbakovskaya Street, Moscow 105187; and

72 Lenigradsky Avenue, Bldg 4, Moscow, Russia 125315; and

(119) Yuriy Vasilyevich Kuzminov, a.k.a., the following one alias:

—Yuri Kuzminov,

53 Sherbakovskaya Street, Building 3, Office 509, 105318 Moscow, Russia; and

26 General Belov Str, Office 19, Moscow, Russia 115583; and

26 Generala Belova Street, Office 19, Moscow, Russia 115583.

Sweden

(1) Andrey Shevlyakov, Grev Turegatan 14, 11446 Stockholm, Sweden; and

(2) Catomi Consulting AB, Grev Turegatan 14, 11446 Stockholm, Sweden.

United Kingdom, Including the British Virgin Islands

(1) Flamar Shipping Ltd, P.O. Box 3321, Road Town, Tortola, British Virgin Islands;

(2) Latebrook Trading Ltd, Drake Chambers, Road Town, Tortola, British Virgin Islands;

(3) Nelford United Corp, P.O. Box 3321, Road Town, Tortola, British Virgin Islands;

(4) Oystercredit Ltd Ogb, OMC Chambers, Wickhams Cay 1, Road Town, Tortola, British Virgin Islands;

(5) Profin Estates, Inc., Palm Chambers 5, Suite 120, The Lake Building, Wickhams Cay 1, P.O. Box 3175, Road Town, Tortola, British Virgin Islands;

(6) Unimont S.A., Drake Chambers, P.O. Box 3321, Road Town, Tortola, British Virgin Islands; and

(7) Voltero Alliance LLP, 45-51 Newhall Street 330, Birmingham, West Midlands, B3 3RB, United Kingdom.

Savings Clause

Shipments of items removed from eligibility for a License Exception or export or reexport without a license (NLR) as a result of this regulatory action that were en route aboard a carrier to a port of export or reexport, on October 9, 2012, pursuant to actual orders for export or reexport to a foreign destination, may proceed to that destination under the previous eligibility for a License Exception or export or reexport without a license (NLR).

Although the Export Administration Act expired on August 20, 2001, the President, through Executive Order 13222 of August 17, 2001, 3 CFR, 2001 Comp., p. 783 (2002), as extended by the Notice of August 15, 2012, 77 FR 49699 (August 16, 2012), has continued the Export Administration Regulations in effect under the International Emergency Economic Powers Act. BIS continues to carry out the provisions of the Export Administration Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a final rule was published, it would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subject in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 9, 2011, 76 FR 70319 (November 10, 2011); Notice of January 19, 2012, 77 FR 3067 (January 20, 2012) Notice of August 15, 2012, 77 FR 49699 (August 16, 2012); Notice of September 11, 2012, 77 FR 56519 (September, 12, 2012).

2. Supplement No. 4 to part 744 is amended:

a. By adding in alphabetical order, the destination of Belize under the Country column and one Belizean entity;

b. By adding under Canada, in alphabetical order, thirteen entities;

c. By adding under Cyprus, in alphabetical order, two entities;

d. By adding in alphabetical order, the destination of Estonia under the Country column and one Estonian entity;

e. By adding in alphabetical order, the destination of Finland under the Country column and eleven Finnish entities;

f. By adding under Germany, in alphabetical order, five German entities;

g. By adding under Greece, in alphabetical order, one Greek entity;

h. By adding under Hong Kong, in alphabetical order, two Hong Kong entities;

i. By adding in alphabetical order, the destination of Kazakhstan under the Country column and one Kazakhstani entity;

j. By adding under Russia, in alphabetical order, one hundred and nineteen Russian entities;

k. By adding in alphabetical order, the destination of Sweden under the Country column, and two Swedish entities; and

l. By adding under United Kingdom, in alphabetical order, seven British entities.

The additions read as follows:

Supplement No. 4 to Part 744—Entity List
Country | Entity | License requirement | License review policy | Federal Register citation
* * * * * * *
Belize | Experian Holdings, Inc., N Eyre Str, Blake Bldg, Suite 302, Belize City, Belize 99008; and Corner Hutson Eyre Str, Blake Bldg, Suite 302, Belize City, Belize 99008. | For all items subject to the EAR. (See § 744.11 of the EAR.) | Presumption of denial | 77 FR [INSERT FR PAGE NUMBER] 10/9/2012.
* * * * * * *
Canada | * * * * *
| Alex Woolf, 2021 Atwater Street, Suite 216, Montreal, Quebec, Canada H3H2P2. | For all items subject to the EAR. (See § 744.11 of the EAR.) | Presumption of denial | 77 FR [INSERT FR PAGE NUMBER] 10/9/2012.
| Alexandre Ivjenko, a.k.a., the following one alias: —Alexander Ivjenko, 7150 Rue Chouinard, Montreal, QC, H8N 2Z6 Canada. | For all items subject to the EAR. (See § 744.11 of the EAR.) | Presumption of denial | 77 FR [INSERT FR PAGE NUMBER ] 10/9/2012.
| * * * * *
| Anastasiya Ivjenko, 7150 Rue Chouinard, Montreal, QC, H8N 2Z6, Canada. | For all items subject to the EAR. (See § 744.11 of the EAR.) | Presumption of denial | 77 FR [INSERT FR PAGE NUMBER ] 10/9/2012.
| Anastassia Voronkevitch, 7320 St. Jacques St. W. Montreal QC, H4B1W1, Canada. | For all items subject to the EAR. (See § 744.11 of the EAR.) | Presumption of denial | 77 FR [INSERT FR PAGE NUMBER ] 10/9/2012.
| Atlas Electronic Systems (AES), 7320 St. Jacques St. W. Montreal, QC, H4B1W1, Canada. | For all items subject to the EAR. (See § 744.11 of the EAR.) | Presumption of denial | 77 FR [INSERT FR PAGE NUMBER ] 10/9/2012.
| * * * * *
| Enterprise Chips Hunter (ECH), 2021 Atwater Street, Suite 216, Montreal, Quebec, Canada H3H2P2. | For all items subject to the EAR. (See § 744.11 of the EAR.) | Presumption of denial | 77 FR [INSERT FR PAGE NUMBER ] 10/9/2012.
| * * * * *
| Liubov “Luba” Skvortsova, a.k.a., the following one alias: —Lubov Skvortsova, 7150 Rue Chouinard, Montreal, QC, H8N 2Z6 Canada. | For all items subject to the EAR. (See § 744.11 of the EAR.) | Presumption of denial | 77 FR [INSERT FR PAGE NUMBER ] 10/9/2012.
| Magtech, a.k.a., the following one alias: —M.A.G. Tech, 5762 Royalmount Ave, Montreal, QC, H4P 1K5, Canada; and 5440 Queen Mart St, Office 103, Montreal, Canada. | For all items subject to the EAR. (See § 744.11 of the EAR.) | Presumption of denial | 77 FR [INSERT FR PAGE NUMBER ] 10/9/2012.
| Maria Pashovkina, 7150 Rue Chouinard, Montreal, QC, H8N 2Z6, Canada. | For all items subject to the EAR. (See § 744.11 of the EAR.) | Presumption of denial | 77 FR [INSERT FR PAGE NUMBER ] 10/9/2012.
| Mercury Electronic Solutions, a.k.a., the following one alias: —Mercury Group International, 380 Vansickle Rd Unit 660, St. Catharines, ON L2126P7, Canada; and 127 Rue Wilson, Dollard-des-Ormeaux, Quebec H9A1W7, Canada. | For all items subject to the EAR. (See § 744.11 of the EAR.) | Presumption of denial | 77 FR [INSERT FR PAGE NUMBER ] 10/9/2012.
| Natalie Sobolev, 5762 Royalmount Ave, Montreal, QC H4P 1K5, Canada; and 5440 Queen Mart St., Office 103, Montreal, Canada. | For all items subject to the EAR. (See § 744.11 of the EAR.) | Presumption of denial | 77 FR [INSERT FR PAGE NUMBER ] 10/9/2012.
| Sputnik E, 7150 Rue Chouinard, Montreal, QC H8N 2Z6 Canada. | For all items subject to the EAR. (See § 744.11 of the EAR.) | Presumption of denial | 77 FR [INSERT FR PAGE NUMBER ] 10/9/2012.
| Zurab Kartvelishvili, a.k.a., the following one alias: —George Kartveli, 7380 Vansickle Rd. Unit 660, St. Catharines, ON L2126P7, Canada; and 320 St. Jacques St., W. Montreal QC, H4B1W1, Canada; and 7380 Vansickle Rd, Unit 660, St. Catharines, ON L2126P7, Canada; and 127 Rue Wilson, Dollard-des-Ormeaux, Quebec H9A1W7, Canada. | For all items subject to the EAR. (See § 744.11 of the EAR.) | Presumption of denial | 77 FR [INSERT FR PAGE NUMBER ] 10/9/2012.
* * * * * * *
Cyprus | Didessar Limited, Archbishop Makarios III Ave, Nicosia, Cyprus. | For all items subject to the EAR. (See § 744.11 of the EAR.) | Presumption of denial | 77 FR [INSERT FR PAGE NUMBER ] 10/9/2012.
| Leondica Holding Ltd, 25 Kolonakiou Str, Za Vos Kolonakioy Center, Limassol, Cyprus. | For all items subject to the EAR. (See § 744.11 of the EAR.) | Presumption of denial | 77 FR [INSERT FR PAGE NUMBER ] 10/9/2012.
| * * * * *
* * * * * * *
Estonia | Yaxart OU, Kalevipoja 12A, 13625 Tallinn, Estonia. | For all items subject to the EAR. (See § 744.11 of the EAR.) | Presumption of denial | 77 FR [INSERT FR PAGE NUMBER ] 10/9/2012.
Finland | Aleksei Kolominen, 20 Nuolitie, Vantaa, Finland 01740. | For all items subject to the EAR. (See § 744.11 of the EAR.) | Presumption of denial | 77 FR [INSERT FR PAGE NUMBER ] 10/9/2012.
| Andrey Kirievski, Lastaajanvayla 22, Lappeenranta, Finland 53420. | For all items subject to the EAR. (See § 744.11 of the EAR.) | Presumption of denial | 77 FR [INSERT FR PAGE NUMBER ] 10/9/2012.
| Eliron Logistics Oy, Vanha Porvoontie 229, Vantaa, Finland 01380. | For all items subject to the EAR. (See § 744.11 of the EAR.) | Presumption of denial | 77 FR [INSERT FR PAGE NUMBER ] 10/9/2012.
| Irina Pavlova, Lastaajanvayla 22, Lappeenranta, Finland 53420. | For all items subject to the EAR. (See § 744.11 of the EAR.) | Presumption of denial | 77 FR [INSERT FR PAGE NUMBER ] 10/9/2012.
| Kuusiaaren Sarnetex & Ter Oy, Kaasuntintie 8A, Helsinski, Finland 00770. | For all items subject to the EAR. (See § 744.11 of the EAR.) | Presumption of denial | 77 FR [INSERT FR PAGE NUMBER ] 10/9/2012.
| Lemon LLC Oy, Peltoinlahdentie 19, FI-54800 Savitaipale. | For all items subject to the EAR. (See § 744.11 of the EAR.) | Presumption of denial | 77 FR [INSERT FR PAGE NUMBER ] 10/9/2012.
| Olkerboy Oy/Nurminen Oy, 231B Vanha Porvoontie, Vantaa, Finland 01380. | For all items subject to the EAR. (See § 744.11 of the EAR.) | Presumption of denial | 77 FR [INSERT FR PAGE NUMBER ] 10/9/2012.
| Russian Cargo Oy, 22 Lastaajanvayla, Lappeenranta, Finland 53420. | For all items subject to the EAR. (See § 744.11 of the EAR.) | Presumption of denial | 77 FR [INSERT FR PAGE NUMBER ] 10/9/2012.
| SM Way Oy, Lastaajanvayla 22, Lappeenranta, Finland 53420. | For all items subject to the EAR. (See § 744.11 of the EAR.) | Presumption of denial | 77 FR [INSERT FR PAGE NUMBER ] 10/9/2012.
| Transsphere Oy, a.k.a., the following two aliases: —Transsphere Limited Oy; and —Transsphere Oy Ltd., 20 Nuolitie, Vantaa, Finland 01740. | For all items subject to the EAR. (See § 744.11 of the EAR.) | Presumption of denial | 77 FR [INSERT FR PAGE NUMBER ] 10/9/2012.
| Vitaliy Dankov, Vanha Porvoontie 231B, Vantaa, Finland 01380. | For all items subject to the EAR. (See § 744.11 of the EAR.) | Presumption of denial | 77 FR [INSERT FR PAGE NUMBER ] 10/9/2012.
* * * * * * *
Germany | Albrecht Import-Export, a.k.a., the following one alias: —Elena Albrecht Import-Export, Gmunder Str. 25, Heubach, Germany 73540. | For all items subject to the EAR. (See § 744.11 of the EAR.) | Presumption of denial | 77 FR [INSERT FR PAGE NUMBER ] 10/9/2012.
| Alexander Brovarenko, Fasanenweg 9L, Kelsterbach, Germany D-65451; and Fasanenweg 9, Gate 23, Kelsterbach, Germany 65451; and Fasanenweg 7, Kelsterbach, Germany D-65451; and IM Taubengrund 35 Gate 1-2, Kelsterbach, Germany 65451. | For all items subject to the EAR. (See § 744.11 of the EAR.) | Presumption of denial | 77 FR [INSERT FR PAGE NUMBER ] 10/9/2012.
| * * * * *
| Elena Albrecht, a.k.a., the following one alias: —Elena Grinenko, Gmunder Str. 25, Heubach, Germany 73540. | For all items subject to the EAR. (See § 744.11 of the EAR.) | Presumption of denial | 77 FR [INSERT FR PAGE NUMBER ] 10/9/2012.
| * * * * *
| Russ Cargo Service GMBH, Fasanenweg 9L, Kelsterbach, Germany D-65451; and Fasanenweg 9, Gate 23, Kelsterbach, Germany 65451; and Fasanenweg 7, Kelsterbach, Germany D-65451; and IM Taubengrund 35 Gate 1-2, Kelsterbach, Germany 65451. | For all items subject to the EAR. (See § 744.11 of the EAR.) | Presumption of denial | 77 FR [INSERT FR PAGE NUMBER ] 10/9/2012.
| * * * * *
| Sergey Grinenko, a.k.a., the following one alias: —Sergey Albrecht, Gmunder Str. 25, Heubach, Germany 73540. | For all items subject to the EAR. (See § 744.11 of the EAR.) | Presumption of denial | 77 FR [INSERT FR PAGE NUMBER ] 10/9/2012.
Greece | * * * * *
| Top Electronics Components S.A., 66 Alkminis & Aristovoulov Str, Kato Petralona, Athens, Greece 11853. | For all items subject to the EAR. (See § 744.11 of the EAR.) | Presumption of denial | 77 FR [INSERT FR PAGE NUMBER ] 10/9/2012.
Hong Kong | * * * * *
| Sergey Koynov, a.k.a., the following one alias: —Sergey V. Coyne, Room 704 7/F, Landwide Commercial Building, 118-120 Austin Rd, Tsim Sha Tsui, Hong Kong (See alternate address in Russia). | For all items subject to the EAR. (See § 744.11 of the EAR.) | Presumption of denial | 77 FR [INSERT FR PAGE NUMBER ] 10/9/2012.
| Serko Limited, Room 704 7/F, Landwide Commercial Building, 118-120 Austin Rd, Tsim Sha Tsui, Hong Kong. | For all items subject to the EAR. (See § 744.11 of the EAR.) | Presumption of denial | 77 FR [INSERT FR PAGE NUMBER ] 10/9/2012.
* * * * * * *
Kazakhstan | APEX Kazakhstan, 126 Jarokova Str, Almaty, Kazakhstan. | For all items subject to the EAR. (See § 744.11 of the EAR.) | Presumption of denial | 77 FR [INSERT FR PAGE NUMBER ] 10/9/2012.
* * * * * * *
Russia | Abris, 6 Aptekarskiy Prospeckt, Office 710, St. Petersburg, Russia 197376; and 30 16th Parkovaya St, Office 319, Moscow, Russia 105484. | For all items subject to the EAR. (See § 744.11 of the EAR.) | Presumption of denial | 77 FR [INSERT FR PAGE NUMBER ] 10/9/2012.
| Abris-KEY, 6 Aptekarskiy Prospeckt, Office 710, St. Petersburg, Russia 197376; and 30 16th Parkovaya St, Office 319, Moscow, Russia 105484. | For all items subject to the EAR. (See § 744.11 of the EAR.) | Presumption of denial | 77 FR [INSERT FR PAGE NUMBER ] 10/9/2012.
| Abris-Technology, 6 Aptekarskiy Prospeckt, Office 710, St. Petersburg, Russia 197376; and 30 16th Parkovaya St, Office 319, Moscow, Russia 105484. | For all items subject to the EAR. (See § 744.11 of the EAR.) | Presumption of denial | 77 FR [INSERT FR PAGE NUMBER ] 10/9/2012.
| Aleksander Cheremshin, Ulitsa Mitinskaya 36/1, Moscow, Russia 125430; and Ordzhonikidze 10, Moscow, Russia 119071; and 10 Ordjonikidze Street, Moscow, Russia 119071; and Ulitsa Polyany 9/6, Moscow, Russia 117042; and Poljani str., 9-6, 117042, Moscow, Russia; and 9 Polyany Street, Suite 6, Moscow, Russia 117042; and 33 Ulitsa Marshala Tukhachevskogo, Suite 231, Moscow, Russia 123154; and Bolshaya Semenovskaya, 40/505, Moscow, Russia 107023; and Ulitsa Metallurgov, 29, Str. 1, Komnata Pravleni, Moscow, Russia 111401. | For all items subject to the EAR. (See § 744.11 of the EAR.) | Presumption of denial | 77 FR [INSERT FR PAGE NUMBER ] 10/9/2012.
| Aleksander Kuznetsov, a.k.a., the following one alias: —Alexander Kuznetsov, Ordzhonikidze 10, Moscow, Russia 119071; and 10 Ordjonikidze Street, Moscow, Russia 119071; and Ulitsa Polyany 9/6, Moscow, Russia 117042; and Poljani str., 9-6, 117042, Moscow, Russia; and 9 Polyany Street, Suite 6, Moscow, Russia 117042; and 33 Ulitsa Marshala Tukhachevskogo, Suite 231, Moscow, Russia 123154; and Bolshaya Semenovskaya, 40/505, Moscow, Russia 107023; and Ulitsa Metallurgov, 29, Str. 1, Komnata Pravleni, Moscow, Russia 111401. | For all items subject to the EAR. (See § 744.11 of the EAR.) | Presumption of denial | 77 FR [INSERT FR PAGE NUMBER ] 10/9/2012.
| Aleksey Markov, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia. | For all items subject to the EAR. (See § 744.11 of the EAR.) | Presumption of denial | 77 FR [INSERT FR PAGE NUMBER ] 10/9/2012.
| Alex Pikhtin, a.k.a., the following one alias: —Alexander Pikhtin, Pr. Yuria Gagarina 2, St. Petersburg, Russia 196105. | For all items subject to the EAR. (See § 744.11 of the EAR.) | Presumption of denial | 77 FR [INSERT FR PAGE NUMBER ] 10/9/2012.
| Alexander Georgievich Mallabiu, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376. | For all items subject to the EAR. (See § 744.11 of the EAR.) | Presumption of denial | 77 FR [INSERT FR PAGE NUMBER ] 10/9/2012.
| Alexander Kuznetsov, Ulitsa Artyukhina 6B, 106, Moscow, Russia. | For all items subject to the EAR. (See § 744.11 of the EAR.) | Presumption of denial | 77 FR [INSERT FR PAGE NUMBER ] 10/9/2012.
| Alexander V. Brindyuk, a.k.a., the following one alias: —Aleksander Brendyuk, Pr. Yuria Gagarina 2, Office 801, St. Petersburg, Russia 196105. | For all items subject to the EAR. (See § 744.11 of the EAR.) | Presumption of denial | 77 FR [INSERT FR PAGE NUMBER ] 10/9/2012.
| Alexander Vedyashkin, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia. | For all items subject to the EAR. (See § 744.11 of the EAR.) | Presumption of denial | 77 FR [INSERT FR PAGE NUMBER ] 10/9/2012.
| Alexey Ivanov Zhuravlev, a.k.a., the following one alias: —Alexy Ivanov, Pr. Yuria Gagarina 2, Office 801, St. Petersburg, Russia 196105; and Pr. Yuria Gagarina 1, Office 230, St. Petersburg, Russia 196105; and Pr. Yuri Gagarin 1, Office 230, St. Petersburg, Russia 196105. | For all items subject to the EAR. (See § 744.11 of the EAR.) | Presumption of denial | 77 FR [INSERT FR PAGE NUMBER ] 10/9/2012.
| Alexey Kulakov, Naberezhnaya Chernoi Rechki 61-1, St. Petersburg, Russia 197342; and Naberegnaja Chernoj Rechki 61-1, 197342, Saint Petersburg, Russia. | For all items subject to the EAR. (See § 744.11 of the EAR.) | Presumption of denial | 77 FR [INSERT FR PAGE NUMBER ] 10/9/2012.
| Alexey Polynkov, 471-4-98 Shosse Entuziastov, Moscow, Russia. | For all items subject to the EAR. (See § 744.11 of the EAR.) | Presumption of denial | 77 FR [INSERT FR PAGE NUMBER ] 10/9/2012.
| * * * * *
| Anastasya Arkhipova, a.k.a., the following one alias: —Anatasiya Arkhipova, 26 General Belov St, Office 415, Moscow, Russia 115583; and 26 Generala Belova Street, Office 415, Moscow, Russia 115583; and 53 Sherbakovskaya Street, Building 3, Office 509, 105318 Moscow, Russia. | For all items subject to the EAR. (See § 744.11 of the EAR.) | Presumption of denial | 77 FR [INSERT FR PAGE NUMBER ] 10/9/2012.
| Andrey Gruzdew, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376. | For all items subject to the EAR. (See § 744.11 of the EAR.) | Presumption of denial | 77 FR [INSERT FR PAGE NUMBER ] 10/9/2012.
| Andrey V Gromadskih, 32 Korablestroiteley St., building #1, Apt #119, St. Petersburg, Russia 199397; and Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Andrey Vladimirovich Saponchik, 6 Aptekarskiy Prospekt, Office 710, St. Petersburg, Russia 197376; and Naberezhnaya Chernoi Rechki 61-1, St. Petersburg, Russia 197342; and 7 Belovodskiy Ln, St. Petersburg, Russia 194044; and Belovodskyi Per, 7, St. Petersburg, Russia 194044; and Naberegnaja Chernoj Rechki 61-1, 197342, Saint Petersburg, Russia; and 16 Parkovaya 30, Office 319, Moscow, Russia 105484. | For all items subject to the EAR. (See § 744.11 of the EAR.) | Presumption of denial | 77 FR [INSERT FR PAGE NUMBER ] 10/9/2012.
| Anna V Libets, Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Anton Khramov, 86 N Prospect Obukhovskoy Oborony, St. Petersburg, Russia 190000. | For all items subject to the EAR. (See § 744.11 of the EAR.) | Presumption of denial | 77 FR [INSERT FR PAGE NUMBER ] 10/9/2012.
| Anton Lebedev, Pr. Yuria Gagarina 2, Office 801, St. Petersburg, Russia 196105; and Pr. Yuria Gagarina 1, Office 230, St. Petersburg, Russia 196105; and Pr. Yuri Gagarin 1, Office 230, St. Petersburg, Russia 196105. | For all items subject to the EAR. (See § 744.11 of the EAR.) | Presumption of denial | 77 FR [INSERT FR PAGE NUMBER ] 10/9/2012.
| Anton Yurevich Alekseyev, Ulitsa Mitinskaya 30/4, Moscow, Russia 123430. | For all items subject to the EAR. (See § 744.11 of the EAR.) | Presumption of denial | 77 FR [INSERT FR PAGE NUMBER ] 10/9/2012.
| APEX, a.k.a., the following four aliases: —APEKS; —APEX Systems; OOO APEX; and —APEX Ltd., 26 General Belov St Office 415, Moscow, Russia 115583; and 26 Generala Belova Street, Office 415, Moscow, Russia 115583; and 53 Sherbakovskaya Street, Building 3, Office 509, Moscow, Russia 105318. | For all items subject to the EAR. (See § 744.11 of the EAR.) | Presumption of denial | 77 FR [INSERT FR PAGE NUMBER ] 10/9/2012.
| APEX St. Petersburg, 140 Leninsky Prospekt, Office 57, St. Petersburg, Russia. | For all items subject to the EAR. (See § 744.11 of the EAR.) | Presumption of denial | 77 FR [INSERT FR PAGE NUMBER ] 10/9/2012.
| APEX Yekaterinburg, 106 Kuybyshev Str, Office 68, Yekaterinburg, Russia; and Ulitsa 9 March, D. 120B, Office 312 620100, Yekaterinburg, Russia; and 106 K 68 ul Kuibysheva, 620100, Yekaterinburg, Russia. | For all items subject to the EAR. (See § 744.11 of the EAR.) | Presumption of denial | 77 FR [INSERT FR PAGE NUMBER ] 10/9/2012.
| Arsenal, 26 General Belov St, Office 19, Moscow, Russia 115583; and 26 Generala Belova Street, Office 19, Moscow, Russia 115583. | For all items subject to the EAR. (See § 744.11 of the EAR.) | Presumption of denial | 77 FR [INSERT FR PAGE NUMBER ] 10/9/2012.
| Atrilor, Ltd, a.k.a., the following two aliases: —Atrilor LLC; and —OOO Atrilor, | For all items subject to the EAR. (See § 744.11 of the EAR.) | Presumption of denial | 77 FR [INSERT FR PAGE NUMBER ] 10/9/2012.
| 36 Mitinskaya St, Building 1, Office 406, Moscow, Russia 125430; and 53 Shcherbakovskaya Street, Moscow 105187.
| Aviton, a.k.a., the following three aliases: —Aviton company; —For Salmi; and —Salmi LLC, | For all items subject to the EAR. (See § 744.11 of the EAR.) | Presumption of denial | 77 FR [INSERT FR PAGE NUMBER ] 10/9/2012.
| Naberezhnaya Chernoi Rechki 61-1, St. Petersburg, Russia 197342; and 6 Aptekarskiy Prospect, Office 710, St. Petersburg, Russia 197376; and 7 Belovodskiy Ln, St. Petersburg, Russia 194044; and Belovodskiy Per, 7, St. Petersburg, Russia 194044; and Naberegnaja Chernoj Rechki 61-1, 197342, Saint Petersburg, Russia; and 16 Parkovaya 30, Office 319, Moscow, Russia 105484.
| Best Komp Group, P.O. Box 242, St. Petersburg, Russia 196240. | For all items subject to the EAR. (See § 744.11 of the EAR.) | Presumption of denial | 77 FR [INSERT FR PAGE NUMBER ] 10/9/2012.
| Bitreit, a.k.a., the following one alias: —OOO Betreit, Neglinnaya Str., 18/1, emb.1 “A”, Moscow, Russia. | For all items subject to the EAR. (See § 744.11 of the EAR.) | Presumption of denial | 77 FR [INSERT FR PAGE NUMBER ] 10/9/2012.
| Bolshaya Semenovskaya, 40/505, Moscow, Russia 107023; and Ulitsa Metallurgov, 29, Str. 1, Komnata Pravleni, Moscow, Russia 111401. | For all items subject to the EAR. (See § 744.11 of the EAR.) | Presumption of denial | 77 FR [INSERT FR PAGE NUMBER ] 10/9/2012.
| Denis A Kizha, Pulkovskoe Shosse, 20-4 #159, St. Petersburg, Russia 196158; and Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| DM Link, P.O. Box 242, St. Petersburg, Russia 196240. | For all items subject to the EAR. (See § 744.11 of the EAR.) | Presumption of denial | 77 FR [INSERT FR PAGE NUMBER ] 10/9/2012.
| Dmitri Ezhov, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583. | For all items subject to the EAR. (See § 744.11 of the EAR.) | Presumption of denial | 77 FR [INSERT FR PAGE NUMBER ] 10/9/2012.
| Dmitriy Averichev, Naberezhnaya Chernoi Rechki 61-1, St. Petersburg, Russia 197342; and Naberegnaja Chernoj Rechki 61-1, 197342, Saint Petersburg, Russia. | For all items subject to the EAR. (See § 744.11 of the EAR.) | Presumption of denial | 77 FR [INSERT FR PAGE NUMBER ] 10/9/2012.
| Dmitriy Moroz, Pr. Yuria Gagarina 2, Office 801, St. Petersburg, Russia 196105. | For all items subject to the EAR. (See § 744.11 of the EAR.) | Presumption of denial | 77 FR [INSERT FR PAGE NUMBER ] 10/9/2012.
| Dmitriy Rakhimov, 26 General Belov Str Office 1010, Moscow, Russia 115583; and 26 Generala Belova Street, Office 1010, Moscow, Russia 115583. | For all items subject to the EAR. (See § 744.11 of the EAR.) | Presumption of denial | 77 FR [INSERT FR PAGE NUMBER ] 10/9/2012.
| Dmitriy V Lukhanin, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376. | For all items subject to the EAR. (See § 744.11 of the EAR.) | Presumption of denial | 77 FR [INSERT FR PAGE NUMBER ] 10/9/2012.
| Dmitry Andreev, 4 Savelkinskiy Dr., Suite 511-512, Zelenograd, Russia 124482. | For all items subject to the EAR. (See § 744.11 of the EAR.) | Presumption of denial | 77 FR [INSERT FR PAGE NUMBER ] 10/9/2012.
| Dmitry Kochanov, 4 Pokhodnyy Dr, Bldg 1, 4th Floor, Room 417, Moscow, Russia 125373. | For all items subject to the EAR. (See § 744.11 of the EAR.) | Presumption of denial | 77 FR [INSERT FR PAGE NUMBER ] 10/9/2012.
| Dmitry M Rodov, Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Dmitry Shegurov, a.k.a., the following one alias: —Dmitriy Shegurov, | For all items subject to the EAR. (See § 744.11 of the EAR.) | Presumption of denial | 77 FR [INSERT FR PAGE NUMBER ] 10/9/2012.
| 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583; and 26 General Belov Str, Office 19, Moscow, Russia 115583; and 26 Generala Belova Street, Office 19, Moscow, Russia 115583.
| ECO-MED-SM Ltd, Petrovsko-Razumovsky proyezd 29, bed.2, Moscow, Russia 127287. | For all items subject to the EAR. (See § 744.11 of the EAR.) | Presumption of denial | 77 FR [INSERT FR PAGE NUMBER ] 10/9/2012.
| Electrotekhnika LLC, 4 Savelkinskiy Dr., Suite 511-512, Zelenograd, Russia 124482; and 4 Yunost Square, NPZ, Suite 1-7, Zelenograd, Russia 124482; and 4 Yunost Square, NPZ, Apt. 1-7, Zelenograd, Russia 124482. | For all items subject to the EAR. (See § 744.11 of the EAR.) | Presumption of denial | 77 FR [INSERT FR PAGE NUMBER ] 10/9/2012.
| Elena Kuznetsova, a.k.a., the following one alias: —Yelena Vladimirovna Kuznetsova, | For all items subject to the EAR. (See § 744.11 of the EAR.) | Presumption of denial | 77 FR [INSERT FR PAGE NUMBER ] 10/9/2012.
| 9 Lipovaya alleya, St. Petersburg, Russia 197183; and Zastavskaya St. 32A, St. Petersburg, Russia 196084; and Zastavskaya St. 15-B, St. Petersburg, Russia 196084; and Raketnyy Bul'var 15, Moscow, Russia 129164; and 16 Raketnyy Bul'var, Moscow, Russia 129164.
| Elizaveta Krapivina, a.k.a., the following one alias: —Yelizaveta Krapivina, | For all items subject to the EAR. (See § 744.11 of the EAR.) | Presumption of denial | 77 FR [INSERT FR PAGE NUMBER ] 10/9/2012.
| Pr. Yuria Gagarina 2, Office 801, St. Petersburg, Russia 196105.
| Evgeni Viktorovich Egorov, 4 Savelkinskiy Dr., Suite 511-512, Zelenograd, Russia 124482. | For all items subject to the EAR. (See § 744.11 of the EAR.) | Presumption of denial | 77 FR [INSERT FR PAGE NUMBER ] 10/9/2012.
| Forward Electronics, LLC, 86 N Prospect Obukhovskoy Oborony, St. Petersburg, Russia 190000; and Kolomyazhsky Prospect 18, Office 4085 BC “North House,” St. Petersburg, Russia 197348. | For all items subject to the EAR. (See § 744.11 of the EAR.) | Presumption of denial | 77 FR [INSERT FR PAGE NUMBER ] 10/9/2012.
| Hermann Derkach, Pr. Yuria Gagarina 2, Office 801, St. Petersburg, Russia 196105. | For all items subject to the EAR. (See § 744.11 of the EAR.) | Presumption of denial | 77 FR [INSERT FR PAGE NUMBER ] 10/9/2012.
| Igor Samusev, Ulitsa Artyukhina 6B, 106, Moscow, Russia. | For all items subject to the EAR. (See § 744.11 of the EAR.) | Presumption of denial | 77 FR [INSERT FR PAGE NUMBER ] 10/9/2012.
| Incorporated Electronics Systems, 9 Lipovaya alleya, St. Petersburg, Russia 197183; and 9A Lipovaya alleya, St. Petersburg, Russia 197183. | For all items subject to the EAR. (See § 744.11 of the EAR.) | Presumption of denial | 77 FR [INSERT FR PAGE NUMBER ] 10/9/2012.
| Ivan Komarov, Pr. Yuria Gagarina 2, Office 801, St. Petersburg, Russia 196105. | For all items subject to the EAR. (See § 744.11 of the EAR.) | Presumption of denial | 77 FR [INSERT FR PAGE NUMBER ] 10/9/2012.
| Ivan Zubarev, 4 Savelkinskiy Dr., Suite 511-512, Zelenograd, Russia 124482. | For all items subject to the EAR. (See § 744.11 of the EAR.) | Presumption of denial | 77 FR [INSERT FR PAGE NUMBER ] 10/9/2012.
| Kirill A Stekhovskiy, Zastavskaya St. 32A, St. Petersburg, Russia 196084; and Zastavaskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Kirill Drozdov, 86 N Prospect Obukhovskoy Oborony, St. Petersburg, Russia 190000. | For all items subject to the EAR. (See § 744.11 of the EAR.) | Presumption of denial | 77 FR [INSERT FR PAGE NUMBER ] 10/9/2012.
| Kirill Pechorin Starodvorsky, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376. | For all items subject to the EAR. (See § 744.11 of the EAR.) | Presumption of denial | 77 FR [INSERT FR PAGE NUMBER ] 10/9/2012.
| Lyudmila V Talyanova, Zastavskaya St. 32A, St. Petersburg, Russia 196084; and Zastavskaya St. 15-B, St. Petersburg, Russia; and Raketnyy Bul'var 15, Moscow, Russia 129164; and Krestovski River Quay 3, Suite 42, St. Petersburg, Russia 197376. | For all items subject to the EAR. (See § 744.11 of the EAR.) | Presumption of denial | 77 FR [INSERT FR PAGE NUMBER ] 10/9/2012.
| Magnetar, Pr. Yuria Gagarina 2, Office 801, St. Petersburg, Russia 196105. | For all items subject to the EAR. (See § 744.11 of the EAR.) | Presumption of denial | 77 FR [INSERT FR PAGE NUMBER ] 10/9/2012.
| Mariya Lomova, 9 Lipovaya alleya, St. Petersburg, Russia 197183. | For all items subject to the EAR. (See § 744.11 of the EAR.) | Presumption of denial | 77 FR [INSERT FR PAGE NUMBER ] 10/9/2012.
| Mark Gofman, P.O. Box 242, St. Petersburg, Russia 196240. | For all items subject to the EAR. (See § 744.11 of the EAR.) | Presumption of denial | 77 FR [INSERT FR PAGE NUMBER ] 10/9/2012.
| Maxim Yevgenevich Ivakin, 106 Kuybyshev Str, Office 68, Yekaterinburg, Russia. | For all items subject to the EAR. (See § 744.11 of the EAR.) | Presumption of denial | 77 FR [INSERT FR PAGE NUMBER ] 10/9/2012.
| MaxiTechGroup, a.k.a., the following two aliases: —MaksiTekhGrup; and —JSC MaksiTekhGrup, | For all items subject to the EAR. (See § 744.11 of the EAR.) | Presumption of denial | 77 FR [INSERT FR PAGE NUMBER ] 10/9/2012.
| 4 Pokhodnyy Dr, Bldg 1, 4th floor, Room 417, Moscow, Russia 125373; and 46 Chkalova St., Zhukovskiy, Moscow Region, 140180.
| Megel, 26 General Belov St, Office 1010, Moscow, Russia 115583; and 26 Generala Belova Street, Office 1010, Moscow, Russia 115583. | For all items subject to the EAR. (See § 744.11 of the EAR.) | Presumption of denial | 77 FR [INSERT FR PAGE NUMBER ] 10/9/2012.
| Mekom, a.k.a., the following one alias: —Mecom, Ulitsa Mitinskaya 36/1, Moscow, Russia 125430. | For all items subject to the EAR. (See § 744.11 of the EAR.) | Presumption of denial | 77 FR [INSERT FR PAGE NUMBER ] 10/9/2012.
| Melkom, a.k.a., the following two aliases: —Melcom; and —Melkom JSC, | For all items subject to the EAR. (See § 744.11 of the EAR.) | Presumption of denial | 77 FR [INSERT FR PAGE NUMBER ] 10/9/2012.
| Ulitsa Ordzhonikidze 10, Moscow, Russia 119071; and 10 Ordjonikidze Street, Moscow, Russia 119071; and Ultisa Polyany 9/6, Moscow, Russia 117042; and Polijani str., 9-6, 117042, Moscow, Russia; and 33 Ulitsa Marshala Tukhachevskogo, Suite 231, Moscow, Russia 123154; and Bolshaya Semenovskaya, 40/505, Moscow, Russia 107023; and Ulitsa Metallurgov, 29, Str. 1, Komnata Pravleni, Moscow, Russia 111401.
| MicroComponent LLC, 2/1, 4th Zapadny proezd, Zelenograd, Russia 124460; and 4 Yunost Square, NPZ, Suite 1-7, Zelenograd, Russia 124482; and 4th West Passage Dr., Building 2, 124460, Zelenograd, Russia. | For all items subject to the EAR. (See § 744.11 of the EAR.) | Presumption of denial | 77 FR [INSERT FR PAGE NUMBER ] 10/9/2012.
| MIG Engineering, a.k.a., the following one alias: —MIG Electronics, | For all items subject to the EAR. (See § 744.11 of the EAR.) | Presumption of denial | 77 FR [INSERT FR PAGE NUMBER ] 10/9/2012.
| 26 General Belov Str, Office 1010, Moscow, Russia 115583; and 26 Generala Belova Street, Office 1010, Moscow, Russia 115583; and 53 Scherbakovskaya St, Bldg 3, Moscow, Russia 105187.
| Mikhail Davidovich, a.k.a., the following one alias: —Mike Davidovich, P.O. Box 242, St. Petersburg, Russia 196240. | For all items subject to the EAR. (See § 744.11 of the EAR.) | Presumption of denial | 77 FR [INSERT FR PAGE NUMBER ] 10/9/2012.
| Mikhail Karpushin, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia. | For all items subject to the EAR. (See § 744.11 of the EAR.) | Presumption of denial | 77 FR [INSERT FR PAGE NUMBER ] 10/9/2012.
| Mikhail Vinogradov, 4 Pokhodnyy Dr, Bldg 1, 4th Floor, Room 417, Moscow, Russia 125373. | For all items subject to the EAR. (See § 744.11 of the EAR.) | Presumption of denial | 77 FR [INSERT FR PAGE NUMBER ] 10/9/2012.
| Neva Electronica, a.k.a., the following one alias: —Neva Elektronika, | For all items subject to the EAR. (See § 744.11 of the EAR.) | Presumption of denial | 77 FR [INSERT FR PAGE NUMBER ] 10/9/2012.
| Pr. Yuria Gagarina 2, Office 801, St. Petersburg, Russia 196105; and 5 Professora Popova St., Saint Petersburg, 197022.
| Nikolai Bragin, 2A Chernyshevskogo St., St. Petersburg, Russia 191123; and Zastavkaya St. 32A, St. Petersburg, Russia 196084; and Zastavskaya st. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Nova Technologies, a.k.a., the following five aliases: —Novie Technologies; and —Nova SPB; and —New Technology; and —Nova Technologies Co., Ltd.; and | For all items subject to the EAR. (See § 744.11 of the EAR.) | Presumption of denial | 77 FR [INSERT FR PAGE NUMBER ] 10/9/2012.
| —Novyye Tekhnologii, LLC,
| 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376.
| Oksana Timohina, 6 Aptekarskiy Prospekt, Office 710, St. Petersburg, Russia 197376; and Naberezhnaya Chernoi Rechki 61-1, St. Petersburg, Russia 197342; and 7 Belovodskiy Ln, St. Petersburg, Russia 194044; and Belovodskyi Per, 7, St. Petersburg, Russia 194044; and Naberegnaja Chernoj Rechki 61-1, 197342, Saint Petersburg, Russia; and 16 Parkovaya 30, Office 319, Moscow, Russia 105484. | For all items subject to the EAR. (See § 744.11 of the EAR.) | Presumption of denial | 77 FR [INSERT FR PAGE NUMBER ] 10/9/2012.
| Oleg Koshkin, 26 General Belov St Office 415, Moscow, Russia 115583; and 26 Generala Belova St Office 415, Moscow, Russia 115583; and 53 Sherbakovskaya Street, Building 3, Office 509, 105318 Moscow, Russia. | For all items subject to the EAR. (See § 744.11 of the EAR.) | Presumption of denial | 77 FR [INSERT FR PAGE NUMBER ] 10/9/2012.
| Oleg Kunilov, 4 Savelkinskiy Dr., Suite 511-512, Zelenograd, Russia 124482. | For all items subject to the EAR. (See § 744.11 of the EAR.) | Presumption of denial | 77 FR [INSERT FR PAGE NUMBER ] 10/9/2012.
| Olga Naumova, 53 Sherbakovskaya St, Bldg 3, Moscow, Russia 105187; and 26 General Belov Str, Office 1010, Moscow, Russia 115583; and 26 Generala Belova Street, Office 1010, Moscow, Russia 115583. | For all items subject to the EAR. (See § 744.11 of the EAR.) | Presumption of denial | 77 FR [INSERT FR PAGE NUMBER ] 10/9/2012.
| Olga Pakhmutova, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583. | For all items subject to the EAR. (See § 744.11 of the EAR.) | Presumption of denial | 77 FR [INSERT FR PAGE NUMBER ] 10/9/2012.
| Olga Petrovna Kuznetsova, 33 Ulitsa Marshala Tukhachevskogo, Suite 231 Moscow, Russia 123154; and Ordzhonikidze 10, Moscow, Russia 119071; and 10 Ordjonikidze Street, Moscow, Russia 119071; and Ulitsa Polyany 9/6, Moscow, Russia 117042; and Poljani str., 9-6, 117042 Moscow, Russia; and 9 Polyany Street, Suite 6, Moscow, Russia 117042; and Bolshaya Semenovskaya, 40/505, Moscow, Russia 107023; and Ulitsa Metallurgov, 29, Str. 1, Komnata Pravleni, Moscow, Russia 111401. | For all items subject to the EAR. (See § 744.11 of the EAR.) | Presumption of denial | 77 FR [INSERT FR PAGE NUMBER ] 10/9/2012.
| Olga Ruzmanova, 53 Sherbakovskaya Street, Building 3, Office 509, 105318 Moscow, Russia; and 26 General Belov St Office 415, Moscow, Russia 115583; and 26 Generala Belova Street, Office 415, Moscow, Russia 115583; and 26 General Belov Str, Office 19, Moscow, Russia 115583; and 26 Generala Belova Street, Office 19, Moscow, Russia 115583. | For all items subject to the EAR. (See § 744.11 of the EAR.) | Presumption of denial | 77 FR [INSERT FR PAGE NUMBER ] 10/9/2012.
| Olga V Bobrikova, 8 Pushkinskaya St., Apt. #47, St. Petersburg, Russia 196607; and Zastavskaya St 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Pavel Grishanovich, 9 Lipovaya alleya, St. Petersburg, Russia 197183. | For all items subject to the EAR. (See § 744.11 of the EAR.) | Presumption of denial | 77 FR [INSERT FR PAGE NUMBER ] 10/9/2012.
| Petersburg Electronic Company (PEC), LLC, a.k.a., the following one alias: —Petersburg Electron-Komplekt Ltd., Zastavskaya St 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Petersburg Electronic Company Warehouse, Zastavskaya St. 15-B, St. Petersburg, Russia 196084. | For all items subject to the EAR. (See § 744.11 of the EAR.) | Presumption of denial | 77 FR [INSERT FR PAGE NUMBER ] 10/9/2012.
| ProExCom, Ulitsa Artyukhina 6B, 106, Moscow, Russia. | For all items subject to the EAR. (See § 744.11 of the EAR.) | Presumption of denial | 77 FR [INSERT FR PAGE NUMBER ] 10/9/2012.
| Radel Ltd., a.k.a., the following one alias: —Firm Radel Ltd., 20 Novaya Basmannaya St., Moscow, Russia. | For all items subject to the EAR. (See § 744.11 of the EAR.) | Presumption of denial | 77 FR [INSERT FR PAGE NUMBER ] 10/9/2012.
| Ramil Yarullovich Magzhanov, Zastavskaya St 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Ravil Mukminovich Bagautdinov, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583. | For all items subject to the EAR. (See § 744.11 of the EAR.) | Presumption of denial | 77 FR [INSERT FR PAGE NUMBER ] 10/9/2012.
| RCM Group, 6 Aptekarskiy Prospekt, Office 700, St. Petersburg, Russia 197376; and 30 16th Parkovaya St, Office 319, Moscow, Russia 105484; and 16-aya Parkovaya Str., 30, Office 319, Moscow, Russia 105484. | For all items subject to the EAR. (See § 744.11 of the EAR.) | Presumption of denial | 77 FR [INSERT FR PAGE NUMBER ] 10/9/2012.
| Roman Eliseev, a.k.a., the following one alias: —Roman Yeliseyev, | For all items subject to the EAR. (See § 744.11 of the EAR.) | Presumption of denial | 77 FR [INSERT FR PAGE NUMBER ] 10/9/2012.
| 26 General Belov Str Office 19, Moscow, Russia 115583; and 26 Generala Belova Street, Office 19, Moscow, Russia 115583; and 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583.
| Saransk Electronic Company, a.k.a., the following one alias: —APEX Saransk, 5A North Street, Saransk, Republic of Mordovia, Russia 43006; and 60 Bolshevistskaya St., Office 905, Saransk, Republic of Mordovia, Russia; and 60 Bolshevistskaya St., Office 910, Saransk, Republic of Mordovia, Russia; and 5a Severnaya Street, Saransk, Republic of Mordovia, Russia. | For all items subject to the EAR. (See § 744.11 of the EAR.) | Presumption of denial | 77 FR [INSERT FR PAGE NUMBER ] 10/9/2012.
| SCTB Engineering, Pr. Yuria Gagarina 1, Office 230, St. Petersburg, Russia 196105; and Pr. Yuri Gagarin 1, Office 230, St. Petersburg, Russia 196105. | For all items subject to the EAR. (See § 744.11 of the EAR.) | Presumption of denial | 77 FR [INSERT FR PAGE NUMBER ] 10/9/2012.
| Sergei Evgenevich Klinov, a.k.a., the following one alias: —Sergey Yevgenyevich Klinov, 26 General Belov St Office 415, Moscow, Russia 115583; and 26 Generala Belova Street, Office 415, Moscow, Russia 115583; and 53 Sherbakovskaya Street, Building 3, Office 509, 105318 Moscow, Russia; and 26 General Belov St Office 1010, Moscow, Russia 115583; and 26 Generala Belova St Office 1010, Moscow, Russia 115583. | For all items subject to the EAR. (See § 744.11 of the EAR.) | Presumption of denial | 77 FR [INSERT FR PAGE NUMBER ] 10/9/2012.
| Sergei G Yuropov, Zastavskaya St 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Sergey Koynov, a.k.a., the following one alias: —Sergey V. Coyne, 106 Kuybyshev Str, Office 68, Yekaterinburg, Russia (see alternate address in Hong Kong). | For all items subject to the EAR. (See § 744.11 of the EAR.) | Presumption of denial | 77 FR [INSERT FR PAGE NUMBER ] 10/9/2012.
| Sergey Nikolayevich Sanaev, a.k.a., the following one alias: —Sergei Nikoleivich Sanev, 5A North Street, Saransk, Republic of Mordovia, Russia 43006; and 53 Sherbakovskaya Street, Building 3, Office 509, 105318 Moscow, Russia; and 26 General Belov St Office 415, Moscow, Russia 115583; and 26 Generala Belova Street, Office 415, Moscow, Russia 115583; and 60 Bolshevistskaya St., Office 905, Saransk, Republic of Mordovia, Russia; and 60 Bolshevistskaya St., Office 910, Saransk, Republic of Mordovia, Russia; and 5a Severnaya Street, Saransk, Republic of Mordovia, Russia. | For all items subject to the EAR. (See § 744.11 of the EAR.) | Presumption of denial | 77 FR [INSERT FR PAGE NUMBER ] 10/9/2012.
| Specelkom, a.k.a., the following one alias: —Special Electronic Components, Ulitsa Mitinskaya 30/4, Moscow, Russia 123430. | For all items subject to the EAR. (See § 744.11 of the EAR.) | Presumption of denial | 77 FR [INSERT FR PAGE NUMBER ] 10/9/2012.
| SpekElectronGroup, 72 Lenigradsky Avenue, Bldg 4, Moscow, Russia 125315. | For all items subject to the EAR. (See § 744.11 of the EAR.) | Presumption of denial | 77 FR [INSERT FR PAGE NUMBER ] 10/9/2012.
| Stanislav Berezovets, Ulitsa Polyany 9/6, Moscow, Russia 117042. | For all items subject to the EAR. (See § 744.11 of the EAR.) | Presumption of denial | 77 FR [INSERT FR PAGE NUMBER ] 10/9/2012.
| Stanislav Bolt, 9 Lipovaya alleya, St. Petersburg, Russia 197183. | For all items subject to the EAR. (See § 744.11 of the EAR.) | Presumption of denial | 77 FR [INSERT FR PAGE NUMBER ] 10/9/2012.
| Stanislav Orelsky, 6 Aptekarskiy Prospekt, Office 710, St. Petersburg, Russia 197376; and Naberezhnaya Chernoi Rechki 61-1, St. Petersburg, Russia 197342; and 7 Belovodskiy Ln, St. Petersburg, Russia 194044; and Belovodskyi Per, 7, St. Petersburg, Russia 194044; and Naberegnaja Chernoj Rechki 61-1, 197342, Saint Petersburg, Russia; and 16 Parkovaya 30, Office 319, Moscow, Russia 105484. | For all items subject to the EAR. (See § 744.11 of the EAR.) | Presumption of denial | 77 FR [INSERT FR PAGE NUMBER ] 10/9/2012.
| Systema VP, a.k.a., the following one alias: —Sistema VP, 4 Savelkinskiy Dr., Suite 511-512, Zelenograd, Russia 124482; and Savelkinsky Pr 4, Office 512, Zelenograd, Russia 124482; and Savelkinskiy Proyedz 4, Office 512, Zelenograd, Russia 124482; and 4 Yunost Square, NPZ, Suite 1-7, Zelenograd, Russia 124482; and Ofis 511, Prospeckt Savelinksi, Moscow, Russia 124482; and 4 Yunost Plaza NPZ, rooms 1-7, Zelenograd, Moscow 124482. | For all items subject to the EAR. (See § 744.11 of the EAR.) | Presumption of denial | 77 FR [INSERT FR PAGE NUMBER ] 10/9/2012.
| Timur Nikoleavich Edigeev, a.k.a., the following one alias: —Timur Yedigeyev, 53 Sherbakovskaya Street, Building 3, Office 509, 105318 Moscow, Russia; and 26 General Belov Str, Office 1010, Moscow, Russia 115583; and 26 Generala Belova Street, Office 1010, Moscow, Russia 115583; and 26 General Belov St Office 415, Moscow, Russia 115583; and 26 Generala Belova Street, Office 415, Moscow, Russia 115583. | For all items subject to the EAR. (See § 744.11 of the EAR.) | Presumption of denial | 77 FR [INSERT FR PAGE NUMBER ] 10/9/2012.
| Vadim Shuletskiy, 6 Aptekarskiy Prospekt, Office 710, St. Petersburg, Russia 197376; and 7 Belovodskiy Ln, St. Petersburg, Russia 194044; and Belovodskyi Per, 7, St. Petersburg, Russia 194044, and Naberegnaja Chernoj Rechki 61-1, 197342, Saint Petersburg, Russia; and 16 Parkovaya 30, Office 319, Moscow, Russia 105484. | For all items subject to the EAR. (See § 744.11 of the EAR.) | Presumption of denial | 77 FR [INSERT FR PAGE NUMBER ] 10/9/2012.
| Valentina Mazalova, 6 Aptekarskiy Prospekt, Office 710, St. Petersburg, Russia 197376; and Naberezhnaya Chernoi Rechki 61-1, St. Petersburg, Russia 197342; and 7 Belovodskiy Ln, St. Petersburg, Russia 194044; and Belovodskyi Per, 7, St. Petersburg, Russia 194044; and Naberegnaja Chernoj Rechki 61-1, 197342, Saint Petersburg, Russia; and 16 Parkovaya 30, Office 319, Moscow, Russia 105484. | For all items subject to the EAR. (See § 744.11 of the EAR.) | Presumption of denial | 77 FR [INSERT FR PAGE NUMBER ] 10/9/2012.
| Video Logic, 4 Yunost Square, NPZ, Suite 1-7, Zelenograd, Russia 124482. | For all items subject to the EAR. (See § 744.11 of the EAR.) | Presumption of denial | 77 FR [INSERT FR PAGE NUMBER ] 10/9/2012.
| Viktor Bokovoi, Ulitsa Polyany 9/6, Moscow, Russia 117042. | For all items subject to the EAR. (See § 744.11 of the EAR.) | Presumption of denial | 77 FR [INSERT FR PAGE NUMBER ] 10/9/2012.
| Vitaliy Nagorniy, Ulitsa Polyany 9/6, Moscow, Russia 117042. | For all items subject to the EAR. (See § 744.11 of the EAR.) | Presumption of denial | 77 FR [INSERT FR PAGE NUMBER ] 10/9/2012.
| Vladimir Davidenko, 20 Novaya Basmannaya St., Moscow, Russia. | For all items subject to the EAR. (See § 744.11 of the EAR.) | Presumption of denial | 77 FR [INSERT FR PAGE NUMBER ] 10/9/2012.
| Vladimir Safraonov, 25 Red Cadets Street Letter H, Office Block 2, St. Petersburg, Russia 99034; and 130-17 Nevskiy Ave., Saint Petersburg, Russia 191036; and 16 Linia V.O., 7 Office 43, St. Petersburg, Russia 99034; and Krestovski River Quay 3, Suite 42, St. Petersburg, Russia 197376. | For all items subject to the EAR. (See § 744.11 of the EAR.) | Presumption of denial | 77 FR [INSERT FR PAGE NUMBER ] 10/9/2012.
| Vladimir Viktorovich Lavrov, Vavilovykh Street 4-2 #267, St. Petersburg, Russia 195257; and Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Vladislav A. Sokolov, 6 Aptekarskiy Prospekt, Office 710, St. Petersburg, Russia 197376; and Naberezhnaya Chernoi Rechki 61-1, St. Petersburg, Russia 197342; and 7 Belovodskiy Ln, St. Petersburg, Russia 194044; and Belovodskyi Per, 7, St. Petersburg, Russia 194044; and Naberegnaja Chernoj Rechki 61-1, 197342, Saint Petersburg, Russia; and 16 Parkovaya 30, Office 319, Moscow, Russia 105484. | For all items subject to the EAR. (See § 744.11 of the EAR.) | Presumption of denial | 77 FR [INSERT FR PAGE NUMBER ] 10/9/2012.
| Vyacheslav Y Shillin, Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Yekaterina Parfenova, 4 Savelkinskiy Dr., Suite 511-512, Zelenograd, Russia 124482. | For all items subject to the EAR. (See § 744.11 of the EAR.) | Presumption of denial | 77 FR [INSERT FR PAGE NUMBER ] 10/9/2012.
| Yevgeniy L Biryukov, Pr. Yuria Gagarina 2, Office 801, St. Petersburg, Russia 196105. | For all items subject to the EAR. (See § 744.11 of the EAR.) | Presumption of denial | 77 FR [INSERT FR PAGE NUMBER ] 10/9/2012.
| Yuliya L. Molkova-Poluh, a.k.a., the following three aliases: —Yuliya Molkova-Polukh; and —Yuliya Leonidovna; Molkova-Polyukh; and —Yuliya Molkova-Polah, Zastavskaya St. 32A, St. Petersburg, Russia 196084; and Zastavskaya St. 15-B, St. Petersburg, Russia 196084; and Raketnyy Bul'var 15, Moscow, Russia 129164; and 16 Raketnyy Bul'var, Moscow, Russia 129164. | For all items subject to the EAR. (See § 744.11 of the EAR.) | Presumption of denial | 77 FR [INSERT FR PAGE NUMBER ] 10/9/2012.
| Yuri A. Krasheninnikov, 9 Lipovaya alleya, St. Petersburg, Russia 197183. | For all items subject to the EAR. (See § 744.11 of the EAR.) | Presumption of denial | 77 FR [INSERT FR PAGE NUMBER ] 10/9/2012.
| Yuri Savin, 39 Dnepropetrovskaya Str., Build 1, Apt. 287, Moscow, Russia; and 36 Mitinskaya St, Building 1, Office 406, Moscow, Russia 125430; and 53 Shcherbakovskaya Street, Moscow 105187; and 72 Lenigradsky Avenue, Bldg 4, Moscow, Russia 125315. | For all items subject to the EAR. (See § 744.11 of the EAR.) | Presumption of denial | 77 FR [INSERT FR PAGE NUMBER ] 10/9/2012.
| Yuriy Vasilyevich Kuzminov, a.k.a., the following one alias: —Yuri Kuzminov, 53 Sherbakovskaya Street, Building 3, Office 509, 105318 Moscow, Russia; and 26 General Belov Str, Office 19, Moscow, Russia 115583; and 26 Generala Belova Street, Office 19, Moscow, Russia 115583. | For all items subject to the EAR. (See § 744.11 of the EAR.) | Presumption of denial | 77 FR [INSERT FR PAGE NUMBER ] 10/9/2012.
* * * * * * *
Sweden | Andrey Shevlyakov, Grev Turegatan 14, 11446 Stockholm, Sweden. | For all items subject to the EAR. (See § 744.11 of the EAR.) | Presumption of denial | 77 FR [INSERT FR PAGE NUMBER ] 10/9/2012.
| Catomi Consulting AB, Grev Turegatan 14, 11446 Stockholm, Sweden. | For all items subject to the EAR. (See § 744.11 of the EAR.) | Presumption of denial | 77 FR [INSERT FR PAGE NUMBER ] 10/9/2012.
* * * * * * *
United Kingdom | * * * * *
| Flamar Shipping Ltd, P.O. Box 3321, Road Town, Tortola, British Virgin Islands. | For all items subject to the EAR. (See § 744.11 of the EAR.) | Presumption of denial | 77 FR [INSERT FR PAGE NUMBER ] 10/9/2012.
| * * * * *
| Latebrook Trading Ltd, Drake Chambers, Road Town, Tortola, British Virgin Islands. | For all items subject to the EAR. (See § 744.11 of the EAR.) | Presumption of denial | 77 FR [INSERT FR PAGE NUMBER ] 10/9/2012.
| * * * * *
| Nelford United Corp, P.O. Box 3321, Road Town, Tortola, British Virgin Islands. | For all items subject to the EAR. (See § 744.11 of the EAR.) | Presumption of denial | 77 FR [INSERT FR PAGE NUMBER ] 10/9/2012.
| * * * * *
| Oystercredit Ltd Ogb, OMC Chambers, Wickhams Cay 1, Road Town, Tortola, British Virgin Islands. | For all items subject to the EAR. (See § 744.11 of the EAR.) | Presumption of denial | 77 FR [INSERT FR PAGE NUMBER ] 10/9/2012.
| Profin Estates, Inc., Palm Chambers 5, Suite 120, The Lake Building, Wickhams Cay 1, P.O. Box 3175, Road Town, Tortola, British Virgin Islands | For all items subject to the EAR. (See § 744.11 of the EAR.) | Presumption of denial | 77 FR [INSERT FR PAGE NUMBER ] 10/9/2012.
| * * * * *
| Unimont S.A., Drake Chambers, P.O. Box 3321, Road Town, Tortola, British Virgin Islands. | For all items subject to the EAR. (See § 744.11 of the EAR.) | Presumption of denial | 77 FR [INSERT FR PAGE NUMBER ] 10/9/2012.
| Voltero Alliance LLP, 45-51 Newhall Street 330, Birmingham, West Midlands, B3 3RB, United Kingdom. | For all items subject to the EAR. (See § 744.11 of the EAR.) | Presumption of denial | 77 FR [INSERT FR PAGE NUMBER ] 10/9/2012.

Dated: October 2, 2012.
Kevin J. Wolf,
Assistant Secretary for Export Administration.

[FR Doc. 2012-24760 Filed 10-5-12; 8:45 am]

BILLING CODE 3510-33-P